DEPARTMENT OF COMMERCE

National Oceanic and Atmospheric Administration

[I.D. 111301D]

South Atlantic Fishery Management Council; Public Meetings

AGENCY: National Marine Fisheries Service (NMFS), National Oceanic and Atmospheric Administration (NOAA), Commerce.

ACTION: Notice of public meetings.

SUMMARY: The South Atlantic Fishery Management Council (Council) will hold meetings of its Advisory Panel Selection Committee, Scientific and Statistical Selection Committee, Information & Education Committee, Habitat Committee, Dolphin Wahoo Committee, Controlled Access Committee, Law Enforcement Committee, Snapper Grouper Committee and a joint meeting of the Snapper Grouper Committee, Snapper Grouper Advisory Panel and the Scientific and Statistical Committee (SSC). Public comment periods will be held during some of the meetings. There will also be a full Council Session.

DATES: The meetings will be held in December 2001. See SUPPLEMENTARY INFORMATION for specific dates and times.

ADDRESSES: The meetings will be held at the Blockade Runner Beach Resort, 275 Waynick Drive, Wrightsville Beach, NC; telephone: (1-800) 541-1161 or (910) 256-2251.

Copies of documents are available from Kim Iverson, Public Information Officer, and South Atlantic Fishery Management Council, One Southpark Circle, Suite 306, Charleston, SC 29407-4699.

FOR FURTHER INFORMATION CONTACT: Kim Iverson, Public Information Officer; telephone: 843-571-4366; fax: 843-769-4520; email: kim.iverson@safmc.net.

SUPPLEMENTARY INFORMATION:

Meeting Dates

1. Advisory Panel Selection Committee Meeting: December 3, 2001, 1 p.m.-3 p.m.

The Advisory Panel Selection Committee will meet in a closed session to review membership applications and develop recommendations.

2. Scientific and Statistical Selection Committee Meeting: December 3, 2001, 3 p.m.-4 p.m.

The Scientific and Statistical Selection Committee will meet in a closed session to review candidates for appointment to the SSC and develop recommendations.

3. Information & Education Committee Meeting: December 3, 2001, 4 p.m.-6 p.m.

The Information & Education Committee will meet to review current materials, projects and activities, develop goals and objectives, and identify needs related to public outreach.

4. Habitat Committee Meeting: December 4, 2001, 8:30 a.m.-10:30 a.m.

The Habitat Committee will meet to review the status of the Sargassum Fishery Management Plan (FMP), review recommendations from the Habitat Advisory Panel, review habitat and environmental policies and modify as necessary, evaluate allowing rock shrimp trawling in or near the Oculina Habitat Area of Particular Concern (HAPC) by vessels with Vessel Monitoring Systems (VMS) and address Ecosystem FMP issues.

5. Dolphin Wahoo Committee Meeting: December 4, 2001, 10:30 a.m.-12 noon

The Dolphin Wahoo Committee will meet to review Draft Environmental Impact Statements (DEIS) and NMFS comments on the draft Dolphin Wahoo FMP, discuss new economic analytical requirements, discuss NMFS action on the emergency rule request regarding dolphin and wahoo management, and develop recommendations regarding the Dolphin Wahoo FMP for formal Secretarial review.

6. Controlled Access Committee Meeting: December 4, 2001, 1:30 p.m.-5:30 p.m.

Beginning at 1:30 p.m., a public hearing will be held on rock shrimp Maximum Sustainable Yield (MSY), Optimum Yield (OY) and status determination criteria.

Following the public hearing, the Controlled Access Committee will meet to discuss new economic analytical requirements for FMPs and review the Qualitative Vessel Capacity Report from NMFS. The Committee will also review DEIS comments on Shrimp Amendment 5 (rock shrimp limited access), approve changes to the document and make recommendations for submission to the Secretary of Commerce.

7. Law Enforcement Committee Meeting: December 5, 2001, 8:30 a.m.-10:30 a.m.

The Law Enforcement Committee will meet to review and comment on Snapper Grouper Amendment 13, review and comment on proposed Marine Protected Area (MPA) sites, discuss the joint Law Enforcement Committee and Advisory Panel meeting, and discuss law enforcement options in light of the current world security situation (i.e., emergency rule request to require Vessel Monitoring Systems (VMS).

8. Joint Snapper Grouper Committee, Advisory Panel and Assessment Group, and Scientific & Statistical Committee Meeting: December 5, 2001, 10:30 a.m.-12 noon and 1:30 p.m.-6:30 p.m.

The Snapper Grouper Committee, Advisory Panel, Assessment Group and the Scientific & Statistical Committee will meet to review the red porgy assessment and projections, review Snapper Grouper Amendment 13 options, review Snapper Grouper Amendment 14 options (marine protected area sites) and discuss additional stock assessment updates.

9. Snapper Grouper Committee Meeting: December 6, 2001, 8:30 a.m.-12 noon.

The Snapper Grouper Committee will meet to review and comment on the following; Proposed actions for Amendment 13 to the Snapper Grouper Fishery Management Plan including permit transfers, snowy grouper and golden tilefish management, prohibition of the sale of mutton snapper in May and June, review of stock status for speckled hind and warsaw grouper and evaluation of current regulations, spawning site closures and other measures. The Committee will also reach a decision regarding the red porgy assessment and projections, and develop recommendations for the Council on Snapper Grouper Amendment 14 options (marine protected area sites).

10. Council Session: December 6, 2001, 1:30 p.m.-6:00 p.m.

From 1:30 p.m.-1:45 p.m., the Council will have a Call to Order, introductions and roll call, adoption of the agenda, and approval of the June 2001 meeting minutes.

From 1:45 p.m.-2:15 p.m., the Council will hold elections for Chairman and Vice-Chairman and make presentations.

From 2:15 p.m.-4:15 p.m., the Council will hear a report from the Snapper Grouper Committee regarding the red porgy assessment and projections, decisions on Snapper Grouper Amendments 13 and 14 options and finalize the Gray's Reef Memorandum of Understanding (MOU).

From 4:15 p.m.-5:15 p.m., Beginning at 4:15 p.m., a public comment period will be held on Shrimp Amendment 5 (rock shrimp). Immediately following the comment period, the Council will hear a report from the Controlled Access Committee regarding Shrimp Amendment 5 and make any necessary changes to the document for submission to the Secretary of Commerce for approval.

From 5:15 p.m.-5:30 p.m., the Council will hear a report from the Scientific and Statistical Selection Committee and appoint new members to the Scientific and Statistical Committee. (closed session)

From 5:30 p.m.-6 p.m., the Council will hear a report from the Advisory Panel Selection Committee and appoint new Advisory Panel members. (closed session)

11. Council Session: December 7, 2001, 8:30 a.m.-3 p.m.

From 8:30 a.m.-9 a.m., the Council will hear a report from the Law Enforcement Committee regarding potential law enforcement action in light of the world security situation.

From 9 a.m.-10 a.m., the Council will hear a report from the Dolphin Wahoo Committee. Beginning at 9:45 a.m., a public comment period will be held regarding the proposed Dolphin Wahoo FMP. Immediately following the public comment period, the Council will make changes to the document as appropriate and approve it for submission to the Secretary of Commerce.

From 10 a.m.-10:30 a.m., the Council will hear a report from the Joint Executive and Finance Committees, and approve priority activities and the budget for Calendar Year (CY) 2002.

From 10:30 a.m.-10:45 a.m., the Council will hear a report from the Information & Education Committee.

From 10:45 a.m.-11:15 a.m., the Council will hear a report from the Habitat Committee and make a decision on allowing rock shrimp trawling in or near the Oculina HAPC by vessels with VMS.

From 11:15 a.m.-12 noon, the Council will hear a report regarding activities from the NMFS South East Fisheries Science Center and an update on the Atlantic Coast Cooperative Statistics Program (ACCSP).

From 1:30 p.m.-2 p.m., the Council will hear NMFS status reports on Golden Crab Amendment 3, Allowable gear rule change request, and Calico Scallop Section 7 submissions. NMFS will also give status reports on landings for Atlantic king mackerel, Gulf king mackerel (eastern zone), Atlantic Spanish mackerel, snowy grouper & golden tilefish, wreckfish, greater amberjack and south Atlantic octocorals.

From 2 p.m.-3 p.m., the Council will hear agency and liasion reports, discuss other business and upcoming meetings.

Documents regarding these issues are available from the Council office (see ADDRESSES).

Although non-emergency issues not contained in this agenda may come before this Council for discussion, those issues may not be the subjects of formal Council action during this meeting. Council action will be restricted to those issues specifically listed in this notice and any issues arising after publication of this notice that require emergency action under section 305(c) of the Magnuson-Stevens Act, provided the public has been notified of the Council's intent to take final action to address the emergency.

Special Accommodations

These meetings are physically accessible to people with disabilities. Requests for sign language interpretation or other auxiliary aids should be directed to the Council office (see ADDRESSES) by November 30, 2001.

Dated: November 15, 2001.
Richard W. Surdi,
Acting Director, Office of Sustainable Fisheries, National Marine Fisheries Service.

[FR Doc. 01-28929 Filed 11-19-01; 8:45 am]

BILLING CODE 3510-22-P